NUCLEAR REGULATORY COMMISSION

[Docket No. 50-302; NRC-2019-0076]

Duke Energy Florida, LLC; Crystal River Unit 3 Nuclear Generating Plant

AGENCY: Nuclear Regulatory Commission.

ACTION: Partial site release; public meeting and request for comment.

SUMMARY: The U.S. Nuclear Regulatory Commission (NRC) is considering a request from Duke Energy Florida, LLC (DEF) to approve the release of land areas, under the control of the NRC power reactor license for the Crystal River Unit 3 Nuclear Generating Plant (CR3), License No. DPR-72. Specifically, DEF requests approval to remove and release the radiologically non-impacted portions of the site from its license for unrestricted use. The NRC will review the request and conduct confirmatory surveys of the properties proposed for release. The NRC is soliciting public comment on the requested action and invites stakeholders and interested persons to participate. The NRC plans to hold a public meeting to promote full understanding of the requested action and to facilitate public comment.

DATES: Submit comments by May 8, 2019. Comments received after this date will be considered if it is practical to do so, but the Commission is able to ensure consideration only for comments received before this date. A public meeting will be held on April 25, 2019.

ADDRESSES: You may submit comments by any of the following methods:

• Federal Rulemaking Website: Go to http://www.regulations.gov and search for: Docket ID NRC-2019-0076. Address questions about NRC dockets IDs in Regulations.gov to Jennifer Borges; telephone: 301-287-9127; email: Jennifer.Borges@nrc.gov. For technical questions, contact the individual listed in the FOR FURTHER INFORMATION CONTACT section of this document.

• Mail comments to: Office of Administration, Mail Stop: TWFN-7A06M, U.S. Nuclear Regulatory Commission, Washington, DC 20555-0001, ATTN: Program Management, Announcements and Editing Staff.

For additional direction on obtaining information and submitting comments, see “Obtaining Information and Submitting Comments” in the SUPPLEMENTARY INFORMATION section of this document.

FOR FURTHER INFORMATION CONTACT: John Hickman, Office of Nuclear Material Safety and Safeguards, U.S. Nuclear Regulatory Commission, Washington, DC 20555-0001; telephone: 301-415-3017; email: John.Hickman@nrc.gov.

SUPPLEMENTARY INFORMATION:

I. Obtaining Information and Submitting Comments

A. Obtaining Information

Please refer to Docket ID NRC-2019-0076. You may obtain publicly-available information related to this action by any of the following methods:

• Federal Rulemaking Website: Go to http://www.regulations.gov and search for Docket ID NRC-2019-0076.

• NRC's Agencywide Documents Access and Management System (ADAMS): You may obtain publicly-available documents online in the ADAMS Public Documents collection at http://www.nrc.gov/reading-rm/adams.html. To begin the search, select “Begin Web-based ADAMS Search.” For problems with ADAMS, please contact the NRC's Public Document Room (PDR) reference staff at 1-800-397-4209, 301-415-4737, or by email to pdr.resource@nrc.gov. The “Crystal River Unit 3—Partial Site Release Request” is available in ADAMS under Package Accession No. ML19029A018.

• NRC's PDR: You may examine and purchase copies of public documents at the NRC's PDR, Room O1-F21, One White Flint North, 11555 Rockville Pike, Rockville, Maryland 20852.

B. Submitting Comments

Please include Docket ID NRC-2019-0076. The NRC cautions you not to include identifying or contact information that you do not want to be publicly disclosed in your comment submission. The NRC will post all comment submissions at http://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Background

The NRC received a request for approval of a partial site release from DEF (the licensee), by letter dated January 22, 2019 (ADAMS Package Accession No. ML19029A018). DEF requests NRC approval to remove and release from its title 10 of the Code of Federal Regulations (10 CFR), part 50 license the portions of the site that the Historical Site Assessment (HSA) characterization process has classified as radiologically non-impacted, in accordance with 10 CFR 50.83(b). The property that is subject to this release request is an approximately 3,854-acre parcel of land that the licensee states was not used for plant operations or storage of radioactive material.

The CR3 license (NRC License No. DPR-72, Docket No. 50-302) is for a power reactor under 10 CFR part 50, “Domestic Licensing of Production and Utilization Facilities.” The facility was certified as permanently shut down, per NRC regulations in 10 CFR 50.82(a), by letter dated February 20, 2013. CR3 is currently in “SAFSTOR” decommissioning mode awaiting the termination of the power reactor license.

As described in 10 CFR 50.83(c), the NRC will determine whether the licensee has adequately evaluated the effect of releasing the properties per the requirements of 10 CFR 50.83(a)(1), determine whether the licensee's classification of any released areas as “non-impacted” is adequately justified, and if the NRC determines that the licensee's submittal is adequate, the NRC will inform the licensee in writing that the release is approved.

III. Public Meeting

The NRC will conduct a public meeting to discuss DEF's request for approval of the partial site release. The meeting will be held on Thursday, April 25, 2019, from 7:00 p.m. until 8:30 p.m., Eastern Time, at the Holiday Inn Express Crystal River, 1203 NE 5th Street, Crystal River, Florida 34429.

This is a Category 3 public meeting where stakeholders are invited to fully engage NRC staff to provide a range of views, information, concerns and suggestions with regard to regulatory issues. After the licensee and the NRC staff presentation portion of the meeting, the public is allowed to speak and ask questions. Comments can be provided orally or in writing to the NRC staff present at the meeting. The NRC will consider and, if appropriate, respond to these written and verbal comments, but such comments will not otherwise constitute part of the decisional record.

Stakeholders should monitor the NRC's public meeting website for information about the public meeting at: http://www.nrc.gov/public-involve/public-meetings/index.cfm.

Dated at Rockville, Maryland, this 3rd day of April 2019.
For the Nuclear Regulatory Commission.
John Tappert,
Director, Division of Decommissioning, Uranium Recovery and Waste Programs, Office of Nuclear Material Safety and Safeguards.

[FR Doc. 2019-06838 Filed 4-5-19; 8:45 am]

BILLING CODE 7590-01-P